FEDERAL COMMUNICATIONS COMMISSION

47 CFR Part 1

[MD Docket No. 10-234; FCC 21-79; FR ID 46781]

Practice and Procedure, CORES Registration System

AGENCY: Federal Communications Commission.

ACTION: Final rule.

SUMMARY: In this document, the Federal Communications Commission (Commission) adopts a Report and Order to require entities and individuals doing business with the Commission to provide a valid email address when they register for FCC Registration Numbers (FRNs) and to keep the email information current along with other information used to register.

DATES: Effective November 29, 2021. The non-substantive change to an information collection effected by the revision to § 1.8002(b)(2) of the Commission's rules was approved by the Office of Management and Budget (OMB) on August 11, 2021.

FOR FURTHER INFORMATION CONTACT: Hua Lu, Financial Systems Operations Group, Office of Managing Director, hua.lu@fcc.gov; 202.418.2424.

SUPPLEMENTARY INFORMATION: This is a summary of the Commission's Report and Order, in MD Docket No. 10-234, FCC 21-79, adopted on June 21, 2021 and released on June 22, 2021. The full text of this document is available for public inspection and copying during normal business hours in the FCC Reference Center, 45 L Street NE, Washington, DC 20554, or by downloading the text from the Commission's website at https://docs.fcc.gov/public/attachments/FCC-21-79A1.pdf.

Synopsis

I. Administrative Matters

A. Final Regulatory Flexibility Analysis

1. As required by the Regulatory Flexibility Act of 1980 (RFA), the Commission has prepared a Final Regulatory Flexibility Analysis (FRFA) relating to this Report and Order. The FRFA is located towards the end of this document.

B. Final Paperwork Reduction Act of 1995 Analysis

2. The Report and Order adopts a new information collection requirement subject to the Paperwork Reduction Act of 1995 (PRA). The new information collection requirement was submitted to the Office of Management and Budget (OMB) for review under section 3507(d) of the PRA and pre-approved on March 15, 2011. In addition, the Report and Order adopts a non-substantive change to an existing approved information collection. This non-substantive change was approved by OMB on August 11, 2021.

C. Congressional Review Act.

3. The Commission has determined, and the Administrator of the Office of Information and Regulatory Affairs, Office of Management and Budget, concurs that these rules are non-major under the Congressional Review Act, 5 U.S.C. 804(2). The Commission will send a copy of this Report and Order to Congress and the Government Accountability Office pursuant to 5 U.S.C. 801(a)(1)(A).

4. In 2000, the Commission established CORES, a web-based, password-protected, registration system that assigns a unique 10-digit FRN to a registrant for use when doing business with the FCC. While initially voluntary, in 2001 the Commission established that individuals and entities were required to obtain FRNs and supply FRNs when doing business with the Commission. Section 1.8002(b)(1) of the Commission's rules lists the information currently required from entities seeking to register for an FRN. Email address information has not been previously required under the rule. Section 1.8002(b)(2) requires that the information used to register for an FRN be kept current by the registrant.

5. In 2010, the Commission proposed modifications to CORES, seeking comment targeted at making CORES more user and feature-friendly and eliminating some of the system's then-current limitations. The 2010 notice of proposed rulemaking (NPRM) (76 FR 5652, Feb. 1, 2011) sought comment about potential changes to the FRN requirements, including whether email addresses should be required to be provided as part of the CORES registration process. The Commission tentatively concluded that “[g]iven the significant increase in the use of and dependence on email in the years since CORES first became operational” all FRN holders should be required to provide an email address upon registering in CORES. The Commission also tentatively concluded that entities and individuals should be required to validate email addresses at the time of registration by clicking on a link that CORES would automatically send to the email address that was provided.

6. In 2016, the Office of Managing Director (OMD) posted an upgraded version of CORES on the Commission's website providing FRN registrants more user-friendly and secure features such as enabling existing and new users to designate usernames to access FRNs and allowing registrants to establish multiple usernames for each FRN with different levels of access. Password recovery, already a feature of the legacy CORES, was also a component of the new version of CORES, providing users with password-recovery security questions to enable them to recover forgotten passwords. Although the new CORES has been available since 2016, the original “legacy” version of CORES has also remained available and in use for FRN registration. Maintaining both the new and legacy CORES on the Commission's website is consistent with the Commission's practice of rolling out upgrades to the CORES systems on a voluntary basis before making such changes mandatory.

7. Entities and individuals that register for FRNs in the new version of CORES must provide email address information which is verified through an email verification link in the FCC User Registration System. An email address remains an optional information request in legacy CORES. The current version of the paper forms for obtaining or updating an FRN, FCC Forms 160 and 161, however, require filers to provide a contact email address as part of the registration process.

II. Report and Order

8. We amend § 1.8002(b) of the Commission's rules to require entities and individuals doing business with the Commission to provide their email addresses when they register for FRNs and to keep the email information current along with other information used to register. We find that it is in the public interest to require email address information as part of the FRN registration process and to maintain a valid email address for all FRN registrants. This change will enable OMD to remove access to legacy CORES from the Commission's website at a later date and maintain only the modernized version of CORES for FRN registration. The new CORES is a more efficient and secure system for managing the Commission's financial and management matters. The change will also be more user-friendly and streamlined for CORES registrants that currently must decide between two versions of CORES.

9. The Commission received several comments on the proposal to require email addresses as part of CORES registration. Sprint, AT&T, and Frontier supported the Commission's proposal to collect email addresses for FRN holders and also supported the Commission using email address information to communicate with FRN holders. Sprint, for example, maintained that such a mandate “will help avoid misrouted inquiries and delayed responses between entities and the Commission.” The National Association for Amateur Radio (ARRL) and Blooston Law, however, argued for email address information to remain optional. ARRL asserted that certain individuals do not have and cannot obtain email addresses, such as those that are economically disadvantaged, those that live in very rural areas, and children. Blooston Law highlights that internet access is less available and can be absent in very remote areas. It also suggested that some FRN users do not subscribe to an internet service due to cost and asserted that the best methods for communication remain telephone and U.S. Mail, so that in the event of an absence, another contact representative is able to address the matter.

10. Although some individuals may lack resources or connectivity for a personal or home internet service, as compared to what was present at the time of the comment window for the 2010 NPRM, there is wide availability of free or low cost public internet access today. For example, users may access the internet for free in public libraries, and also in schools that offer internet connectivity for after-hours community use. Also, other Commission proceedings have demonstrated that there is a vast majority of entities that already communicate with the Commission electronically. If there are entities and individuals that seek to do business with the Commission that lack access to internet service, they may need to use a proxy to register for an FRN with a valid email address, such as children seeking amateur radio licenses who rely on a parent or guardian to assist with the licensing process. Registrants are also able to use online support services or call a help desk to ask questions and receive help with their registrations.

11. The public benefit of adopting this rule change, which will enable the Commission to retire legacy CORES and retain the new CORES to deliver enhanced features and security, outweighs the potential burdens that may be faced by a small subset of users to provide email address information. Because it helps authenticate the individuals who will be utilizing the Commission's information systems, the new CORES is a more secure tool for the Commission and external users through the use of personal username registration and email verification. An email address is a unique ID and/or digital identity for each user that not only helps ensure the FCC provides better service and user experience based on data collected per a registered email address, it differentiates one user from another by establishing a digital identity to each person. By using an established email address and associated password, a user is granted appropriate access to do business with FCC.

12. Requiring email address information as part of FRN registration and requiring users to keep up-to-date email addresses in CORES will enable the Commission to fully finalize its shift from U.S. Postal Service delivery to electronic delivery of notices and other correspondence related to CORES. Therefore, retiring legacy CORES allows the Commission to operate more efficiently and effectively by freeing up the resources currently being used to maintain and operate two CORES systems, and by allowing the Commission to email CORES registrants CORES and FRN-related information rather than needing to send this information in mailed letters. We provide further guidance on OMD's implementation of this transition below.

13. Implementation of the Rule Change. After the rule revision goes into effect, we direct OMD to announce by public notice the end date for access to legacy CORES. To streamline this transition and best prepare for any upcoming Commission business, new and current registrants are encouraged to use the modernized CORES as soon as possible. Because the modernized CORES has been available since 2016, users do not need to wait for legacy CORES to be retired or for the rule change announced here to go into effect to take this step.

14. Retiring legacy CORES will primarily impact three groups of CORES users. First, users seeking to make changes related to their FRN will need to do so in the new CORES by associating with their FRN a user-specific identification (username) and password to continue managing their FRN. Second, any person or entity that does not yet have an FRN, but seeks to do business with the Commission, will use the new CORES to register. Third, users that forget their password and seek to reset their password online will use the new CORES to reset their password.

15. After the legacy CORES is retired, we delegate authority to OMD to allow users that obtained their FRN through legacy CORES and have not associated a valid email address with their FRN, to continue to use that FRN without an associated valid email address for a limited period. OMD, in consultation with the Commission's Chief Information Officer, will determine what steps to take to bring such users into compliance and ensure that the benefits of the rule change are fully utilized. We note, however, that this limited flexibility with respect to CORES does not negate the fact that certain Commission information systems and applications currently require, or may in the future require, valid email address information to gain entry or otherwise use such systems.

16. We are also deleting § 1.8002(e) of the Commission's rules because it is out of date. FRNs must be assigned through CORES and cannot be assigned by the Billing and Collection Agent for North American Numbering Plan Administration and the Administrators of the Universal Service Fund and the Telecommunications Relay Services Fund as suggested in § 1.8002(e).

17. Paperwork Reduction Act Analysis. The Report and Order adopts a new information collection requirement subject to the Paperwork Reduction Act of 1995 (PRA). The new information collection requirement was submitted to the Office of Management and Budget (OMB) for review under section 3507(d) of the PRA and pre-approved on March 15, 2011. In addition, the Report and Order adopts a non-substantive change to an existing approved information collection. This non-substantive change was approved by OMB on August 11, 2021.

18. Final Regulatory Flexibility Analysis. As required by the Regulatory Flexibility Act of 1980 (RFA) the Commission has prepared a Final Regulatory Flexibility Analysis (FRFA) relating to this Report and Order.

III. Final Regulatory Flexibility Analysis

19. As required by the Regulatory Flexibility Act of 1980, as amended (“RFA”) we incorporated an Initial Regulatory Flexibility Analysis (IRFA) of the possible significant economic impact on a substantial number of small entities by the policies and rules proposed in the 2010 NPRM. No comments were filed addressing the IRFA. Because we amend a Commission rule in this Report and Order, we have included this Final Regulatory Flexibility Analysis (FRFA). This present FRFA conforms to the RFA.

A. Need for and Objectives of the Proposed Rules

20. In the Report and Order, the Commission amends § 1.8002(b) of the Commission's rules to require entities and individuals doing business with the Commission, or seeking to business with the Commission, to provide their email addresses when they register for FRNs and to keep the email information current along with other information used to register. This change finalizes the requirement for CORES users to provide email address information as part of FRN registration: Email address submission is a requirement only in the newer, modernized version of CORES. With this change, the Commission will be able to end access to the original “legacy” CORES that has been available since the Commission established CORES in 2000 for FRN registration, and transition CORES users to the updated version of CORES for FRN registration. The updated version of CORES that will replace legacy CORES is a more efficient and secure system for managing the Commission's financial management matters because it will allow the Commission to email CORES registrants CORES and FRN-related information rather than require the use of U.S. Postal Service delivery, and the new CORES employs identity and access management for authenticating and authorizing access to the system. The email requirements named herein are the only specific requirements being adopted in this Report and Order.

B. Summary of Significant Issues Raised by Public Comments in Response to the IRFA

21. There were no comments received in response to the IRFA.

C. Response to Comments by the Chief Counsel for Advocacy of the Small Business Administration

22. Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

D. Description and Estimate of the Number of Small Entities To Which the Proposed Rules Will Apply

23. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration.

24. The changes or additions to the Commission's part 1 rules that will be made as a result of the Report and Order are of general applicability to all services, applying to all entities of any size that apply for or hold Commission licenses, permits, certifications, etc., as well as entities or individuals that have attributable ownership interests in such entities, and have already obtained or will in the future obtain a unique identifying number through CORES called an FCC Registration Number, or “FRN.”

25. Small Businesses, Small Organizations, Small Governmental Jurisdictions. Our actions, over time, may affect small entities that are not easily categorized at present. We therefore describe here, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 30.7 million businesses. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2018, there were approximately 571,709 small exempt organizations in the U.S. reporting revenues of $50,000 or less according to the registration and tax data for exempt organizations available from the IRS. Finally, the small entity described as a “small governmental jurisdiction” is defined generally as “governments of cities, counties, towns, townships, villages, school districts, or special districts, with a population of less than fifty thousand.” U.S. Census Bureau data from the 2017 Census of Governments indicate that there were 90,075 local governmental jurisdictions consisting of general purpose governments and special purpose governments in the United States. Of this number there were 36,931 general purpose governments (county, municipal and town or township) with populations of less than 50,000 and 12,040 special purpose governments—independent school districts with enrollment populations of less than 50,000. Accordingly, based on the 2017 U.S. Census of Governments data, we estimate that at least 48,971 entities fall into the category of “small governmental jurisdictions.”

E. Providers of Telecommunications and Other Services

26. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.” The SBA has developed a small business size standard for Wired Telecommunications Carriers, which consists of all such companies having 1,500 or fewer employees. U.S. Census Bureau data for 2012 show that there were 3,117 firms that operated that year. Of this total, 3,083 operated with fewer than 1,000 employees. Thus, under this size standard, the majority of firms in this industry can be considered small.

27. Local Resellers. The SBA has not developed a small business size standard specifically for Local Resellers. The SBA category of Telecommunications Resellers is the closest NAICs code category for local resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. Under the SBA's size standard, such a business is small if it has 1,500 or fewer employees. U.S. Census Bureau data from 2012 show that 1,341 firms provided resale services during that year. Of that number, all operated with fewer than 1,000 employees. Thus, under this category and the associated small business size standard, the majority of these resellers can be considered small entities. According to Commission data, 213 carriers have reported that they are engaged in the provision of local resale services. Of these, an estimated 211 have 1,500 or fewer employees and two have more than 1,500 employees. Consequently, the Commission estimates that the majority of local resellers are small entities.

28. Toll Resellers. The Commission has not developed a definition for Toll Resellers. The closest NAICS Code Category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA has developed a small business size standard for the category of Telecommunications Resellers. Under that size standard, such a business is small if it has 1,500 or fewer employees. 2012 Census Bureau data show that 1,341 firms provided resale services during that year. Of that number, 1,341 operated with fewer than 1,000 employees. Thus, under this category and the associated small business size standard, the majority of these resellers can be considered small entities. According to Commission data, 881 carriers have reported that they are engaged in the provision of toll resale services. Of this total, an estimated 857 have 1,500 or fewer employees. Consequently, the Commission estimates that the majority of toll resellers are small entities.

29. Payphone Service Providers (“PSPs”). The Commission has not developed a definition for Payphone Service Providers. The closest NAICS Code Category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA has developed a small business size standard for the category of Telecommunications Resellers. Under that size standard, such a business is small if it has 1,500 or fewer employees. 2012 Census Bureau data show that 1,341 firms provided resale services during that year. Of that number, 1,341 operated with fewer than 1,000 employees. Thus, under this category and the associated small business size standard, the majority of these resellers can be considered small entities. According to Commission data, 881 carriers have reported that they are engaged in the provision of toll resale services. Of this total, an estimated 857 have 1,500 or fewer employees. Consequently, the Commission estimates that the majority of toll resellers are small.

30. Prepaid Calling Card Providers. Neither the Commission nor the SBA has developed a small business size standard specifically for prepaid calling card providers. The appropriate size standard under SBA rules is for the category Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA has developed a small business size standard for the category of Telecommunications Resellers. Under that size standard, such a business is small if it has 1,500 or fewer employees. 2012 Census Bureau data show that 1,341 firms provided resale services during that year. Of that number, 1,341 operated with fewer than 1,000 employees. Thus, under this category and the associated small business size standard, the majority of these resellers can be considered small entities. According to Commission data, 881 carriers have reported that they are engaged in the provision of toll resale services. Of this total, an estimated 857 have 1,500 or fewer employees. Consequently, the Commission estimates that the majority of Prepaid Calling Card Providers are small.

31. 800 and 800-Like Service Subscribers. Neither the Commission nor the SBA has developed a small business size standard specifically for 800 and 800-like service (“toll free”) subscribers. The appropriate size standard under SBA rules is for the category Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. MVNOs are included in this industry. The SBA has developed a small business size standard for the category of Telecommunications Resellers. Under that size standard, such a business is small if it has 1,500 or fewer employees. 2012 Census Bureau data show that 1,341 firms provided resale services during that year. Of that number, 1,341 operated with fewer than 1,000 employees. Thus, under this category and the associated small business size standard, the majority of these resellers can be considered small entities. According to Commission data, 881 carriers have reported that they are engaged in the provision of toll resale services. Of this total, an estimated 857 have 1,500 or fewer employees. Consequently, the Commission estimates that the majority of 800 and 800-Like Service Providers are small.

32. Satellite Telecommunications. This category comprises firms “primarily engaged in providing telecommunications services to other establishments in the telecommunications and broadcasting industries by forwarding and receiving communications signals via a system of satellites or reselling satellite telecommunications.” Satellite telecommunications service providers include satellite and earth station operators. The category has a small business size standard of $35 million or less in average annual receipts, under SBA rules. For this category, U.S. Census Bureau data for 2012 show that there were a total of 333 firms that operated for the entire year. Of this total, 299 firms had annual receipts of less than $25 million. Consequently, we estimate that the majority of satellite telecommunications providers are small entities.

33. All Other Telecommunications. The “All Other Telecommunications” category is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or voice over internet protocol (VoIP) services via client-supplied telecommunications connections are also included in this industry. The SBA has developed a small business size standard for All Other Telecommunications, which consists of all such firms with annual receipts of $35 million or less. For this category, U.S. Census Bureau data for 2012 shows that there were 1,442 firms that operated for the entire year. Of those firms, a total of 1,400 had annual receipts less than $25 million. Thus, the Commission estimates that the majority of “All Other Telecommunications” firms potentially affected by our action can be considered small.

34. Wireless Telecommunications Carriers (except Satellite). This industry comprises establishments engaged in operating and maintaining switching and transmission facilities to provide communications via the airwaves. Establishments in this industry have spectrum licenses and provide services using that spectrum, such as cellular services, paging services, wireless internet access, and wireless video services. The appropriate size standard under SBA rules is that such a business is small if it has 1,500 or fewer employees. For this industry, U.S. Census data for 2012 show that there were 967 firms that operated for the entire year. Of this total, 955 firms had employment of 999 or fewer employees. Thus, under this category and the associated size standard, the Commission estimates that the majority of wireless telecommunications carriers (except satellite) are small entities.

35. Television Broadcasting. This Economic Census category “comprises establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA has created the following small business size standard for such businesses: Those having $41.5 million or less in annual receipts. The 2012 Economic Census reports that 751 firms in this category operated in that year. Of that number, 656 had annual receipts of $25,000,000 or less. Based on this data we therefore estimate that the majority of commercial television broadcasters are small entities under the applicable SBA size standard.

36. The Commission has estimated the number of licensed commercial television stations to be 1,377. Of this total, 1,258 stations (or about 91 percent) had revenues of $41.5 million or less, according to Commission staff review of the BIA Kelsey Inc. Media Access Pro Television Database (BIA) on November 16, 2017, and therefore these licensees qualify as small entities under the SBA definition. In addition, the Commission has estimated the number of licensed noncommercial educational television stations to be 384. Notwithstanding, the Commission does not compile and otherwise does not have access to information on the revenue of NCE stations that would permit it to determine how many such stations would qualify as small entities. There are also 2,300 low power television stations, including Class A stations (LPTV) and 3,681 TV translator stations. Given the nature of these services, we will presume that all of these entities qualify as small entities under the above SBA small business size standard.

37. We note, however, that in assessing whether a business concern qualifies as “small” under the above definition, business (control) affiliations must be included. Our estimate, therefore likely overstates the number of small entities that might be affected by our action, because the revenue figure on which it is based does not include or aggregate revenues from affiliated companies. In addition, another element of the definition of “small business” requires that an entity not be dominant in its field of operation. We are unable at this time to define or quantify the criteria that would establish whether a specific television broadcast station is dominant in its field of operation. Accordingly, the estimate of small businesses to which rules may apply does not exclude any television station from the definition of a small business on this basis and is therefore possibly over-inclusive. Also, as noted above, an additional element of the definition of “small business” is that the entity must be independently owned and operated. The Commission notes that it is difficult at times to assess these criteria in the context of media entities and its estimates of small businesses to which they apply may be over-inclusive to this extent.

38. Radio Stations. This Economic Census category “comprises establishments primarily engaged in broadcasting aural programs by radio to the public.” The SBA has created the following small business size standard for this category: Those having $41.5 million or less in annual receipts. Census data for 2012 show that 2,849 firms in this category operated in that year. Of this number, 2,806 firms had annual receipts of less than $25 million. Because the Census has no additional classifications that could serve as a basis for determining the number of stations whose receipts exceeded $41.5 million in that year, we conclude that the majority of radio broadcast stations were small entities under the applicable SBA size standard. In addition, the Commission has estimated the number of noncommercial educational FM radio stations to be 4,122. NCE stations are non-profit, and therefore considered to be small entities.

39. Auxiliary, Special Broadcast and Other Program Distribution Services. This service involves a variety of transmitters, generally used to relay broadcast programming to the public (through translator and booster stations) or within the program distribution chain (from a remote news gathering unit back to the station). Neither the SBA nor the Commission has developed a size standard applicable to broadcast auxiliary licensees. The closest applicable SBA category and small business size standard falls under Radio Stations and Television Broadcasting. The SBA size standard for radio stations is $41.5 million per year. U.S. Census Bureau data for 2012 show that 2,849 radio station firms operated during that year. Of that number, 2,806 firms operated with annual receipts of less than $25 million per year. For Television Broadcasting the SBA small business size standard is such businesses having $41.5 million or less in annual receipts. U.S. Census Bureau data show that 751 firms in this category operated in that year. Of that number, 656 had annual receipts of $25,000,000 or less. Accordingly, based on the U.S. Census Bureau data for Radio Stations and Television Broadcasting, the Commission estimates that the majority of Auxiliary, Special Broadcast and Other Program Distribution Services firms are small.

40. Cable Companies and Systems (Rate Regulation). The Commission has also developed its own small business size standards, for the purpose of cable rate regulation. Under the Commission's rules, a “small cable company” is one serving 400,000 or fewer subscribers nationwide. Industry data indicate that there are 4,600 active cable systems in the United States. Of this total, all but five cable operators nationwide are small under the 400,000-subscriber size standard. In addition, under the Commission's rate regulation rules, a “small system” is a cable system serving 15,000 or fewer subscribers. Commission records show 4,600 cable systems nationwide. Of this total, 3,900 cable systems have fewer than 15,000 subscribers, and 700 systems have 15,000 or more subscribers, based on the same records. Thus, under this standard as well, we estimate that most cable systems are small entities

41. Internet Service Providers. Broadband internet service providers include wired (e.g., cable, DSL) and VoIP service providers using their own operated wired telecommunications infrastructure fall in the category of Wired Telecommunication Carriers. Wired Telecommunications Carriers are comprised of establishments primarily engaged in operating and/or providing access to transmission facilities and infrastructure that they own and/or lease for the transmission of voice, data, text, sound, and video using wired telecommunications networks. Transmission facilities may be based on a single technology or a combination of technologies. The SBA size standard for this category classifies a business as small if it has 1,500 or fewer employees. U.S. Census Bureau data for 2012 show that there were 3,117 firms that operated that year. Of this total, 3,083 operated with fewer than 1,000 employees. Consequently, under this size standard the majority of firms in this industry can be considered small.

F. Schools and Libraries

42. Schools. While the Commission does define entities eligible to participate in the E-Rate program, neither the Commission nor the SBA have a size standard for small entities specifically applicable to schools. Under the E-Rate program, which provides support for elementary and secondary schools and libraries, an elementary school is generally “a non-profit institutional day or residential school that provides elementary education, as determined under state law.” A secondary school is generally defined as “a non-profit institutional day or residential school that provides secondary education, as determined under state law,” and not offering education beyond grade 12. For-profit schools, and schools with endowments in excess of $50,000,000, are not eligible to receive discounts under the E-Rate program.

43. Although the SBA does not have a size standard for small entities specifically applicable to schools, the closest NAICS Code category is Elementary and Secondary Schools under the subsector Educational Services. The SBA has developed a small business size standard for Elementary and Secondary Schools which consists of all such entities with gross annual receipts of $12 million or less. In funding year 2017, approximately 104,500 schools received funding under the schools and libraries universal service mechanism. Although we are unable to estimate the exact number of these entities that would qualify as small entities under SBA's size standard, we estimate that fewer than 104,500 schools might be affected by our action.

44. Libraries. The Commission does have definitions for entities that participate in the E-Rate program but neither the Commission nor the SBA have a size standard for small entities specifically applicable to libraries. Under the E-Rate program, which provides support for libraries, a library includes “(1) a public library, (2) a public elementary school or secondary school library, (3) an academic library, (4) a research library [] and (5) a private library, but only if the state in which such private library is located determines that the library should be considered a library for the purposes of this definition.” For-profit libraries, are not eligible to receive discounts under the program, nor are libraries whose budgets are not completely separate from any schools.

45. Although the SBA does not have a size standard for small entities specifically applicable to libraries, the closest NAICS Code category is Libraries and Archives. The SBA has developed a small business size standard for Libraries and Archives which consists of all such entities with gross annual receipts of $16.5 million or less. In funding year 2017, approximately 11,490 libraries received funding under the schools and libraries universal service mechanism. Although we are unable to estimate the exact number of these entities that would qualify as small entities under SBA's size standard, we estimate that fewer than 11,490 libraries might be affected annually by our action.

G. Health Care Providers

46. Offices of Physicians (except Mental Health Specialists). This U.S. industry comprises establishments of health practitioners having the degree of M.D. (Doctor of Medicine) or D.O. (Doctor of Osteopathy) primarily engaged in the independent practice of general or specialized medicine (except psychiatry or psychoanalysis) or surgery. These practitioners operate private or group practices in their own offices (e.g., centers, clinics) or in the facilities of others, such as hospitals or health maintenance organization (HMO) medical centers. The SBA has created a size standard for this industry, which is annual receipts of $11 million or less. According to 2012 U.S. Economic Census, 152,468 firms operated throughout the entire year in this industry. Of that number, 147,718 had annual receipts of less than $10 million. Based on this data, we conclude that a majority of firms operating in this industry are small under the applicable size standard.

47. Offices of Physicians, Mental Health Specialists. The U.S. industry comprises establishments of health practitioners having the degree of M.D. (Doctor of Medicine) or D.O. (Doctor of Osteopathy) primarily engaged in the independent practice of psychiatry or psychoanalysis. These practitioners operate private or group practices in their own offices (e.g., centers, clinics) or in the facilities of others, such as hospitals or HMO medical centers. The SBA has established a size standard for businesses in this industry, which is annual receipts of $12 million dollars or less. The U.S. Economic Census indicates that 8,809 firms operated throughout the entire year in this industry. Of that number 8,791 had annual receipts of less than $10 million. Based on this data, we conclude that a majority of firms in this industry are small under the applicable standard.

48. Offices of Dentists. This U.S. industry comprises establishments of health practitioners having the degree of D.M.D. (Doctor of Dental Medicine), D.D.S. (Doctor of Dental Surgery), or D.D.S. (Doctor of Dental Science) primarily engaged in the independent practice of general or specialized dentistry or dental surgery. These practitioners operate private or group practices in their own offices (e.g., centers, clinics) or in the facilities of others, such as hospitals or HMO medical centers. They can provide either comprehensive preventive, cosmetic, or emergency care, or specialize in a single field of dentistry. The SBA has established a size standard for that industry of annual receipts of $8.0 million or less. The 2012 U.S. Economic Census indicates that 115,268 firms operated in the dental industry throughout the entire year. Of that number 114,417 had annual receipts of less than $5 million. Based on this data, we conclude that a majority of business in the dental industry are small under the applicable standard.

49. Offices of Chiropractors. This U.S. industry comprises establishments of health practitioners having the degree of DC (Doctor of Chiropractic) primarily engaged in the independent practice of chiropractic. These practitioners provide diagnostic and therapeutic treatment of neuromusculoskeletal and related disorders through the manipulation and adjustment of the spinal column and extremities, and operate private or group practices in their own offices (e.g., centers, clinics) or in the facilities of others, such as hospitals or HMO medical centers. The SBA has established a size standard for this industry, which is annual receipts of $8.0 million or less. The 2012 U.S. Economic Census statistics show that in 2012, there were 33,940 firms operated throughout the entire year. Of that number 33,910 operated with annual receipts of less than $5 million per year. Based on that data, we conclude that a majority of chiropractors are small.

50. Offices of Optometrists. This U.S. industry comprises establishments of health practitioners having the degree of O.D. (Doctor of Optometry) primarily engaged in the independent practice of optometry. These practitioners examine, diagnose, treat, and manage diseases and disorders of the visual system, the eye and associated structures as well as diagnose related systemic conditions. Offices of optometrists prescribe and/or provide eyeglasses, contact lenses, low vision aids, and vision therapy. They operate private or group practices in their own offices (e.g., centers, clinics) or in the facilities of others, such as hospitals or HMO medical centers, and may also provide the same services as opticians, such as selling and fitting prescription eyeglasses and contact lenses. The SBA has $8.0 established a size standard for businesses operating in this industry, which is annual receipts of million or less. The 2012 Economic Census indicates that 18,050 firms operated the entire year. Of that number, 17,951 had annual receipts of less than $5 million. Based on this data, we conclude that a majority of optometrists in this industry are small.

51. Offices of Mental Health Practitioners (except Physicians). This U.S. industry comprises establishments of independent mental health practitioners (except physicians) primarily engaged in (1) the diagnosis and treatment of mental, emotional, and behavioral disorders and/or (2) the diagnosis and treatment of individual or group social dysfunction brought about by such causes as mental illness, alcohol and substance abuse, physical and emotional trauma, or stress. These practitioners operate private or group practices in their own offices (e.g., centers, clinics) or in the facilities of others, such as hospitals or HMO medical centers. The SBA has created a size standard for this industry, which is annual receipts of $8.0 million or less. The 2012 U.S. Economic Census indicates that 16,058 firms operated throughout the entire year. Of that number, 15,894 firms received annual receipts of less than $5 million. Based on this data, we conclude that a majority of mental health practitioners who do not employ physicians are small.

52. Offices of Physical, Occupational and Speech Therapists and Audiologists. This U.S. industry comprises establishments of independent health practitioners primarily engaged in one of the following: (1) Providing physical therapy services to patients who have impairments, functional limitations, disabilities, or changes in physical functions and health status resulting from injury, disease or other causes, or who require prevention, wellness or fitness services; (2) planning and administering educational, recreational, and social activities designed to help patients or individuals with disabilities, regain physical or mental functioning or to adapt to their disabilities; and (3) diagnosing and treating speech, language, or hearing problems. These practitioners operate private or group practices in their own offices (e.g., centers, clinics) or in the facilities of others, such as hospitals or HMO medical centers. The SBA has established a size standard for this industry, which is annual receipts of $8.0 million or less. The 2012 U.S. Economic Census indicates that 20,567 firms in this industry operated throughout the entire year. Of this number, 20,047 had annual receipts of less than $5 million. Based on this data, we conclude that a majority of businesses in this industry are small.

53. Offices of Podiatrists. This U.S. industry comprises establishments of health practitioners having the degree of D.P.M. (Doctor of Podiatric Medicine) primarily engaged in the independent practice of podiatry. These practitioners diagnose and treat diseases and deformities of the foot and operate private or group practices in their own offices (e.g., centers, clinics) or in the facilities of others, such as hospitals or HMO medical centers. The SBA has established a size standard for businesses in this industry, which is annual receipts of $8.0 million or less. The 2012 U.S. Economic Census indicates that 7,569 podiatry firms operated throughout the entire year. Of that number, 7,545 firms had annual receipts of less than $5 million. Based on this data, we conclude that a majority of firms in this industry are small.

54. Offices of All Other Miscellaneous Health Practitioners. This U.S. industry comprises establishments of independent health practitioners (except physicians; dentists; chiropractors; optometrists; mental health specialists; physical, occupational, and speech therapists; audiologists; and podiatrists). These practitioners operate private or group practices in their own offices (e.g., centers, clinics) or in the facilities of others, such as hospitals or HMO medical centers. The SBA has established a size standard for this industry, which is annual receipts of $8.0 million or less. The 2012 U.S. Economic Census indicates that 11,460 firms operated throughout the entire year. Of that number, 11,374 firms had annual receipts of less than $5 million. Based on this data, we conclude the majority of firms in this industry are small.

55. Family Planning Centers. This U.S. industry comprises establishments with medical staff primarily engaged in providing a range of family planning services on an outpatient basis, such as contraceptive services, genetic and prenatal counseling, voluntary sterilization, and therapeutic and medically induced termination of pregnancy. The SBA has established a size standard for this industry, which is annual receipts of $12 million or less. The 2012 Economic Census indicates that 1,286 firms in this industry operated throughout the entire year. Of that number 1,237 had annual receipts of less than $10 million. Based on this data, we conclude that the majority of firms in this industry are small.

56. Outpatient Mental Health and Substance Abuse Centers. This U.S. industry comprises establishments with medical staff primarily engaged in providing outpatient services related to the diagnosis and treatment of mental health disorders and alcohol and other substance abuse. These establishments generally treat patients who do not require inpatient treatment. They may provide a counseling staff and information regarding a wide range of mental health and substance abuse issues and/or refer patients to more extensive treatment programs, if necessary. The SBA has established a size standard for this industry, which is $16.5 million or less in annual receipts. The 2012 U.S. Economic Census indicates that 4,446 firms operated throughout the entire year. Of that number, 4,069 had annual receipts of less than $10 million. Based on this data, we conclude that a majority of firms in this industry are small.

57. HMO Medical Centers. This U.S. industry comprises establishments with physicians and other medical staff primarily engaged in providing a range of outpatient medical services to the HMO subscribers with a focus generally on primary health care. These establishments are owned by the HMO. Included in this industry are HMO establishments that both provide health care services and underwrite health and medical insurance policies. The SBA has established a size standard for this industry, which is $35 million or less in annual receipts. The 2012 U.S. Economic Census indicates that 14 firms in this industry operated throughout the entire year. Of that number, 5 firms had annual receipts of less than $25 million. Based on this data, we conclude that approximately one-third of the firms in this industry are small.

58. Freestanding Ambulatory Surgical and Emergency Centers. This U.S. industry comprises establishments with physicians and other medical staff primarily engaged in (1) providing surgical services (e.g., orthoscopic and cataract surgery) on an outpatient basis or (2) providing emergency care services (e.g., setting broken bones, treating lacerations, or tending to patients suffering injuries as a result of accidents, trauma, or medical conditions necessitating immediate medical care) on an outpatient basis. Outpatient surgical establishments have specialized facilities, such as operating and recovery rooms, and specialized equipment, such as anesthetic or X-ray equipment. The SBA has established a size standard for this industry, which is annual receipts of $16.5 million or less. The 2012 U.S. Economic Census indicates that 3,595 firms in this industry operated throughout the entire year. Of that number, 3,222 firms had annual receipts of less than $10 million. Based on this data, we conclude that a majority of firms in this industry are small.

59. All Other Outpatient Care Centers. This U.S. industry comprises establishments with medical staff primarily engaged in providing general or specialized outpatient care (except family planning centers, outpatient mental health and substance abuse centers, HMO medical centers, kidney dialysis centers, and freestanding ambulatory surgical and emergency centers). Centers or clinics of health practitioners with different degrees from more than one industry practicing within the same establishment (i.e., Doctor of Medicine and Doctor of Dental Medicine) are included in this industry. The SBA has established a size standard for this industry, which is annual receipts of $22 million or less. The 2012 U.S. Economic Census indicates that 4,903 firms operated in this industry throughout the entire year. Of this number, 4,269 firms had annual receipts of less than $10 million. Based on this data, we conclude that a majority of firms in this industry are small.

60. Blood and Organ Banks. This U.S. industry comprises establishments primarily engaged in collecting, storing, and distributing blood and blood products and storing and distributing body organs. The SBA has established a size standard for this industry, which is annual receipts of $35 million or less. The 2012 U.S. Economic Census indicates that 314 firms operated in this industry throughout the entire year. Of that number, 235 operated with annual receipts of less than $25 million. Based on this data, we conclude that approximately three-quarters of firms that operate in this industry are small.

61. All Other Miscellaneous Ambulatory Health Care Services. This U.S. industry comprises establishments primarily engaged in providing ambulatory health care services (except offices of physicians, dentists, and other health practitioners; outpatient care centers; medical and diagnostic laboratories; home health care providers; ambulances; and blood and organ banks). The SBA has established a size standard for this industry, which is annual receipts of $16.5 million or less. The 2012 U.S. Economic Census indicates that 2,429 firms operated in this industry throughout the entire year. Of that number, 2,318 had annual receipts of less than $10 million. Based on this data, we conclude that a majority of the firms in this industry are small.

62. Medical Laboratories. This U.S. industry comprises establishments known as medical laboratories primarily engaged in providing analytic or diagnostic services, including body fluid analysis, generally to the medical profession or to the patient on referral from a health practitioner. The SBA has established a size standard for this industry, which is annual receipts of $35 million or less. The 2012 U.S. Economic Census indicates that 2,599 firms operated in this industry throughout the entire year. Of this number, 2,465 had annual receipts of less than $25 million. Based on this data, we conclude that a majority of firms that operate in this industry are small.

63. Diagnostic Imaging Centers. This U.S. industry comprises establishments known as diagnostic imaging centers primarily engaged in producing images of the patient generally on referral from a health practitioner. The SBA has established size standard for this industry, which is annual receipts of $16.5 million or less. The 2012 U.S. Economic Census indicates that 4,209 firms operated in this industry throughout the entire year. Of that number, 3,876 firms had annual receipts of less than $10 million. Based on this data, we conclude that a majority of firms that operate in this industry are small.

64. Home Health Care Services. This U.S. industry comprises establishments primarily engaged in providing skilled nursing services in the home, along with a range of the following: Personal care services; homemaker and companion services; physical therapy; medical social services; medications; medical equipment and supplies; counseling; 24-hour home care; occupation and vocational therapy; dietary and nutritional services; speech therapy; audiology; and high-tech care, such as intravenous therapy. The SBA has established a size standard for this industry, which is annual receipts of $16.5 million or less. The 2012 U.S. Economic Census indicates that 17,770 firms operated in this industry throughout the entire year. Of that number, 16,822 had annual receipts of less than $10 million. Based on this data, we conclude that a majority of firms that operate in this industry are small.

65. Ambulance Services. This U.S. industry comprises establishments primarily engaged in providing transportation of patients by ground or air, along with medical care. These services are often provided during a medical emergency but are not restricted to emergencies. The vehicles are equipped with lifesaving equipment operated by medically trained personnel. The SBA has established a size standard for this industry, which is annual receipts of $16.5 million. The 2012 U.S. Economic Census indicates that 2,984 firms operated in this industry throughout the entire year. Of that number, 2,926 had annual receipts of less than $15 million. Based on this data, we conclude that a majority of firms in this industry are small.

66. Kidney Dialysis Centers. This U.S. industry comprises establishments with medical staff primarily engaged in providing outpatient kidney or renal dialysis services. The SBA has established assize standard for this industry, which is annual receipts of $41.5 million or less. The 2012 U.S. Economic Census indicates that 396 firms operated in this industry throughout the entire year. Of that number, 379 had annual receipts of less than $25 million. Based on this data, we conclude that a majority of firms in this industry are small.

67. General Medical and Surgical Hospitals. This U.S. industry comprises establishments known and licensed as general medical and surgical hospitals primarily engaged in providing diagnostic and medical treatment (both surgical and nonsurgical) to inpatients with any of a wide variety of medical conditions. These establishments maintain inpatient beds and provide patients with food services that meet their nutritional requirements. These hospitals have an organized staff of physicians and other medical staff to provide patient care services. These establishments usually provide other services, such as outpatient services, anatomical pathology services, diagnostic X-ray services, clinical laboratory services, operating room services for a variety of procedures, and pharmacy services. The SBA has established a size standard for this industry, which is annual receipts of $41.5 million or less. The 2012 U.S. Economic Census indicates that 2,800 firms operated in this industry throughout the entire year. Of that number, 877 has annual receipts of less than $25 million. Based on this data, we conclude that approximately one-quarter of firms in this industry are small.

68. Psychiatric and Substance Abuse Hospitals. This U.S. industry comprises establishments known and licensed as psychiatric and substance abuse hospitals primarily engaged in providing diagnostic, medical treatment, and monitoring services for inpatients who suffer from mental illness or substance abuse disorders. The treatment often requires an extended stay in the hospital. These establishments maintain inpatient beds and provide patients with food services that meet their nutritional requirements. They have an organized staff of physicians and other medical staff to provide patient care services. Psychiatric, psychological, and social work services are available at the facility. These hospitals usually provide other services, such as outpatient services, clinical laboratory services, diagnostic X-ray services, and electroencephalograph services. The SBA has established a size standard for this industry, which is annual receipts of $41.5 million or less. The 2012 U.S. Economic Census indicates that 404 firms operated in this industry throughout the entire year. Of that number, 185 had annual receipts of less than $25 million. Based on this data, we conclude that slightly less than one-half of the firms in this industry are small.

69. Specialty (Except Psychiatric and Substance Abuse) Hospitals. This U.S. industry consists of establishments known and licensed as specialty hospitals primarily engaged in providing diagnostic, and medical treatment to inpatients with a specific type of disease or medical condition (except psychiatric or substance abuse). Hospitals providing long-term care for the chronically ill and hospitals providing rehabilitation, restorative, and adjustive services to physically challenged or disabled people are included in this industry. These establishments maintain inpatient beds and provide patients with food services that meet their nutritional requirements. They have an organized staff of physicians and other medical staff to provide patient care services. These hospitals may provide other services, such as outpatient services, diagnostic X-ray services, clinical laboratory services, operating room services, physical therapy services, educational and vocational services, and psychological and social work services. The SBA has established a size standard for this industry, which is annual receipts of $41.5 million or less. The 2012 U.S. Economic Census indicates that 346 firms operated in this industry throughout the entire year. Of that number, 146 firms had annual receipts of less than $25 million. Based on this data, we conclude that approximately one-third of the firms in this industry are small.

70. Emergency and Other Relief Services. This industry comprises establishments primarily engaged in providing food, shelter, clothing, medical relief, resettlement, and counseling to victims of domestic or international disasters or conflicts (e.g., wars). The SBA has established a size standard for this industry, which is annual receipts of $35 million or less. The 2012 U.S. Economic Census indicates that 541 firms operated in this industry throughout the entire year. Of that number, 509 had annual receipts of less than $25 million. Based on this data, we conclude that a majority of firms in this industry are small.

H. Description of Projected Reporting, Recordkeeping, and Other Compliance Requirements

71. The Report and Order adopts the following new reporting requirement. New FRN registrants and certain existing FRN holders that need to update their FRNs will need to provide their email address information to set up a username and password to be associated with their FRN. Eventually, all FRN registrants will be expected to manage FRN-related business in the new CORES.

I. Steps Taken To Minimize Significant Economic Impact on Small Entities, and Significant Alternatives Considered

72. The RFA requires an agency to describe any significant, specifically small business, alternatives that it has considered in reaching its proposed approach, which may include the following four alternatives (among others): “(1) The establishment of differing compliance or reporting requirements or timetables that take into account the resources available to small entities; (2) the clarification, consolidation, or simplification of compliance or reporting requirements under the rule for small entities; (3) the use of performance, rather than design standards; and (4) an exemption from coverage of the rule, or any part thereof, for small entities.”

73. A substantial number of entities and individuals doing business with the Commission have already received their FRNs through a prior registration in the old version of CORES (or legacy CORES), and we anticipate that the changes proposed here will have little to no economic impact on them. For all users that are currently using the legacy CORES and will be expected to use the new CORES, there should be no economic barriers involved in seeking an FRN number through CORES when registering online through the Commission's website. The Office of Managing Director is the delegated authority to transition registrants that obtained passwords through legacy CORES to the new CORES, and, in consultation with the Commission's Chief Information Officer, will best determine what steps to take to bring such users into compliance. Through the transition process, all FRN holders will be expected to manage FRN business through the new CORES. After legacy CORES is retired (i.e., no longer publicly accessible), new FRN registrants and existing FRN holders that need to update FRN information will need to do so in the new CORES because the legacy CORES system will not be available. When needing to first register for an FRN or make information changes to a registration, users will be required to provide an email address and password in the FCC User Registration System in order to access the new CORES. FRN holders that forget their passwords will also need to go through the new system to set up new passwords. The steps to obtain a new FRN or revise the information associated with an already-existing FRN are not burdensome because this requires a limited amount of data entry in form fields and should involve little to no cost for the registrant. However, this order does not address other Commission information systems that may require FRN and password entry or additional requirements for those separate systems

IV. Ordering Clauses

74. Accordingly, it is ordered that pursuant to sections 4(i), 8(c)(2), 9(c)(2), and 303(r) of the Communications Act of 1934, as amended, 47 U.S.C. 154(i), 158(c)(2), 159(c)(2), and 303(r); and section 7701 of the Debt Collection Improvement Act of 1996, 31 U.S.C. 7701(c)(1), the Report and Order is adopted and the Commission's rules are hereby amended as set forth in Appendix B of the Report and Order. The rules and procedures adopted in the Report and Order are effective 30 days after the date of publication in the Federal Register. The non-substantive change to an information collection effected by the revision to § 1.8002(b)(2) of the Commission's rules was approved by OMB on August 11, 2021.

75. It is further ordered that this Report and Order shall be effective 30 days after publication of a summary in the Federal Register.

76. It is further ordered that the Commission shall send a copy of the Report and Order, in a report to be sent to Congress and the Government Accountability Office pursuant to the Congressional Review Act, 5 U.S.C. 801(a)(1)(A).

77. It is further ordered that the Commission's Consumer and Governmental Affairs Bureau, Reference Information Center, shall send a copy of the Report and Order, including the Final Regulatory Flexibility Analysis, to the Chief Counsel for Advocacy of the Small Business Administration.

List of Subjects in 47 CFR Part 1

Administrative practice and procedure, Communications, internet, Reporting and recordkeeping requirements, Telecommunications.

Federal Communications Commission.
Marlene Dortch,
Secretary.

For the reasons stated in the preamble, the FCC amends 47 CFR part 1 as follows:

PART 1—PRACTICE AND PROCEDURE

1. The authority citation for part 1 continues to read as follows:

Authority: 47 U.S.C. chs. 2, 5, 9, 13; 28 U.S.C. 2461 note, unless otherwise noted.

2. Amend § 1.8002 by:

a. Revising paragraph (b); and

b. Removing paragraph (e).

The revision reads as follows:

§ 1.8002 Obtaining an FRN.

* * * * *

(b)(1) When registering for an FRN through the CORES, an entity's name, entity type, contact name and title, address, valid email address, and taxpayer identifying number (TIN) must be provided. For individuals, the TIN is the social security number (SSN).

(2) Information listed in paragraph (b)(1) of this section must be kept current by registrants either by updating the information on-line at the CORES link at www.fcc.gov or by filing FCC Form 161 (CORES Update/Change Form).

* * * * *

[FR Doc. 2021-20544 Filed 10-28-21; 8:45 am]

BILLING CODE 6712-01-P